NATIONAL SCIENCE FOUNDATION

Request for Information on the 2023 Federal Cybersecurity Research and Development Strategic Plan

AGENCY: Networking and Information Technology Research and Development (NITRD) National Coordination Office (NCO), National Science Foundation (NSF).

ACTION: Request for information; extension of comment period.

SUMMARY: On February 7, 2023, the NITRD NCO and NSF, on behalf of the NITRD Cyber Security and Information Assurance Interagency Working Group (CSIA IWG), published in the Federal Register a document entitled “Request for Information on the 2023 Federal Cybersecurity Research and Development Strategic Plan.” Through this RFI, the NITRD NCO seeks input from the public on Federal priorities in cybersecurity R&D. In the interest of ensuring that prospective responders are able to adequately consider and respond to the RFI, the NITRD NCO and NSF have determined that an extension of the comment period until March 14, 2023, is appropriate.

DATES: The end of the comment period for the document entitled “Request for Information on the 2023 Federal Cybersecurity Research and Development Strategic Plan,” published on February 7, 2023 (88 FR 7999), is extended from March 3, 2023 to 11:59 p.m. (ET) on March 14, 2023.

ADDRESSES: Comments submitted in response to 88 FR 7999 may be sent by any of the following methods:

(a) Email: cybersecurity@nitrd.gov. Email submissions should be machine-readable and not be copy-protected. Submissions should include “RFI Response: Federal Cybersecurity R&D Strategic Plan” in the subject line of the message.

(b) Fax: 202-459-9673, Attn: Tomas Vagoun.

(c) Mail: NCO/NITRD, Attn: Tomas Vagoun, 2415 Eisenhower Avenue, Alexandria, VA 22314, USA.

Instructions: Response to this RFI (88 FR 7999) is voluntary. Submissions must not exceed 25 pages in 12-point or larger font, with a page number provided on each page. Responses should include the name of the person(s) or organization(s) providing the submission.

Responses to this RFI (88 FR 7999) may be posted online at https://www.nitrd.gov. Therefore, we request that no business-proprietary information, copyrighted information, or personally identifiable information be submitted in response to this RFI.

In accordance with FAR 15.202(3), responses to this notice are not offers and cannot be accepted by the Federal Government to form a binding contract. Responders are solely responsible for all expenses associated with responding to this RFI (88 FR 7999).

FOR FURTHER INFORMATION CONTACT: Tomas Vagoun at cybersecurity@nitrd.gov or 202-459-9674, or by mailing to NCO/NITRD, 2415 Eisenhower Avenue, Alexandria, VA 22314, USA. Individuals who use a telecommunications device for the deaf (TDD) may call the Federal Information Relay Service (FIRS) at 1-800-877-8339 between 8 a.m. and 8 p.m., Eastern time, Monday through Friday.

SUPPLEMENTARY INFORMATION: On February 7, 2023, the NITRD NCO and NSF, on behalf of the NITRD Cyber Security and Information Assurance Interagency Working Group (CSIA IWG), published in the Federal Register an RFI (88 FR 7999) seeking public input on Federal priorities in cybersecurity R&D. The document stated that the comment period would close on March 3, 2023. The NITRD NCO and NSF have decided to extend the comment period. An extension of the comment period will provide additional opportunity for the public to consider the RFI (88 FR 7999) and submit responses to the questions posed therein. Therefore, NITRD NCO and NSF are extending the end of the comment period for the RFI (88 FR 7999) from March 3, 2023, until March 14, 2023.

Submitted by the National Science Foundation in support of the Networking and Information Technology Research and Development (NITRD) National Coordination Office (NCO) on February 15, 2023.

(Authority: 42 U.S.C. 1861.)

Suzanne H. Plimpton,
Reports Clearance Officer, National Science Foundation.

[FR Doc. 2023-03557 Filed 2-17-23; 8:45 am]

BILLING CODE 7555-01-P